GOVERNMENT ACCOUNTABILITY OFFICE

Advisory Council on Government Auditing Standards; Notice of Meeting

The Advisory Council on Government Auditing Standards will meet Wednesday, May 11, 2011, from 8:15 a.m. to 3:30 p.m., in the Staats Briefing Room (7C13) of the Government Accountability Office building, 441 G Street, NW., Washington, DC.

The Advisory Council on Government Auditing Standards will hold a meeting to discuss updates and revisions of the 2007 Revision of Government Auditing Standards. The meeting is open to the public. Members of the public will be provided an opportunity to address the Council with a brief (five-minute) presentation in the afternoon on matters directly related to the proposed update and revision.

Any interested person who plans to attend the meeting as an observer must contact Jennifer Allison, Executive Assistant, 202-512-3423. A form of picture identification must be presented to the GAO Security Desk on the day of the meeting to obtain access to the GAO building. You must enter the building at the G Street entrance. For further information, please contact Mrs. Allison. Please check the Government Auditing Standards Web page (http://www.gao.gov/govaud/ybk01.htm) one week prior to the meeting for a final agenda.

[Public Law 67-13, 42 Stat. 20 (June 10, 1921).]

James R. Dalkin,
Director, Financial Management and Assurance.

[FR Doc. 2011-8430 Filed 4-7-11; 8:45 am]

BILLING CODE 1610-02-P